DEPARTMENT OF AGRICULTURE

Forest Service

Sierra National Forest, California, Sierra National Forest Motorized Travel Management EIS

AGENCY: Forest Service, USDA.

ACTION: Notice of intent to prepare an Environmental Impact Statement.

SUMMARY: The Sierra National Forest (Sierra NF) will prepare an Environmental Impact Statement to disclose the impacts associated with the following proposed actions: 1. The prohibition of wheeled motorized vehicle travel off designated NFS roads, NFS trails and areas by the public except as allowed by permit or other authorization. 2. The addition of approximately 54 miles of existing unauthorized tracks to the current system of National Forest System (NFS) motorized trails, the permanent conversion of 72 miles of NFS Roads to NFS Trails, the management of 61 miles of NFS Roads as NFS Trails and the addition of six acres for motorized use. 3. The changing of the allowable use or season of use on approximately 970 miles of existing NFS Roads and closing approximately 200 miles of existing NFS Roads to public access usless allowed by permit or other authorization.

DATES: The comment period on the proposed action will extend 45 days from the date the Notice of Intent is published in the Federal Register.

Completion of the Draft Environmental Impact Statement (DEIS) is expected in November 2007 and the Final Environmental Impact Statement (FEIS) is expected in January 2008.

ADDRESSES: Send written comments to: Travel Management Team, Sierra NF, 1600 Tollhouse Rd., Clovis, CA 93611.

FOR FURTHER INFORMATION CONTACT: Tom Lowe, Sierra NF, 1600 Tollhouse Rd., Clovis, CA 93611; Phone: (559) 297-0706 extension 4840. E-mail: sierra.route.designation@fs.fed.us.

SUPPLEMENTARY INFORMATION:

Background

Over the past few decades, the availability and capability of motorized vehicles, particularly off-highway vehicles (OHVs) and sport utility vehicles (SUVs) has increased tremendously. Nationally, the number of OHV users has climbed sevenfold in the past 30 years, from approximately 5 million in 1972 to 36 million in 2000. California is experiencing the highest level of OHV use of any state in the nation. There were 786,914 ATVs and OHV motorcycles registered in 2004, up 330% since 1980. Annual sales of ATVs and OHV motorcycles in California were the highest in the U.S. for the last 5 years. Four-wheel drive vehicle sales in California also increased by 1500% to 3,046,866 from 1989 to 2002. (Off-Highway Vehicle Recreation in the United States, Regions and States: A National Report from a National Survey on Recreation and the Environment, USDA Forest Service, 2005).

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of “Four Key Threats Facing the Nation's Forests and Grasslands.” (USDA Forest Service, June 2004).

On August 11, 2003, the Pacific Southwest Region of the Forest Service entered into a Memorandum of Intent (MOI) with the California Off-Highway Motor Vehicle Recreation Commission, and the Off-Highway Motor Vehicle Recreation Division of the California Department of Parks and Recreation. That MOI set in motion a region-wide effort to “Designate OHV roads, trails, and any specifically defined open areas for motorized wheeled vehicles on maps of the 19 National Forests in California by 2007.”

On November 9, 2005, the Forest Service published final travel management regulations in the Federal Register (FR Vol. 70, No. 216-Nov. 9, 2005, pp. 68264-68291). This final Travel Management Rule requires designation of those roads, trails, and areas that are open to motor vehicle use on National Forests. Designations will be made by class of vehicle and, if appropriate, by time of year. The final rule prohibits the use of motor vehicles off the designated system as well as use of motor vehicles on routes and in areas that are not designated.

On some NFS lands, long managed as open to cross-country motor vehicle travel, repeated use has resulted in unplanned, unauthorized tracks. These tracks generally developed without environmental analysis or public involvement, and do not have the same status as NFS roads and NFS trails included in the forest transportation system. Nevertheless, some unauthorized tracks are well-sited, provide excellent opportunities for outdoor recreation by motorized and non-motorized users, and would enhance the National Forest system of designated roads, trails and areas. Other unauthorized tracks are poorly located and cause unacceptable impacts. Only NFS roads and NFS trails can be designated for wheeled motorized vehicle use. In order for an unauthorized track to be designated, it must first be added to the forest transportation system.

In accordance with the MOI, the Sierra NF completed an inventory of unauthorized tracks on NFS lands in August of 2006, identifying approximately 520 miles of known unauthorized tracks. The Sierra NF then used an interdisciplinary process to conduct a Travel Analysis including working with the public to determine whether any of the unauthorized tracks should be proposed for addition to the Sierra NF transportation system. Roads, trails and areas that are currently part of the Sierra NF transportation system and are open to wheeled motorized vehicle travel will remain designated for such use except as described below under Proposed Action. This proposal focuses on the prohibition of wheeled motorized vehicle travel off designated routes and needed changes to the Sierra NF transportation system, including the addition of some unauthorized routes to the Sierra NF transportation system and minor changes to the existing transportation systems. The proposed action is being carried forward in accordance with the Travel Management Rule (36 CFR part 212).

In accordance with the rule, following a decision on this proposal, the Sierra NF will publish a Motor Vehicle Use Map (MVUM) identifying all Sierra NF roads, trails and areas that are designated for motor vehicle use. The MVUM shall specify the classes of vehicles and, if appropriate, the times of year for which use is designated.

Purpose and Need for Action

The following needs have been identified for this proposal:

1. There is a need for regulation of unmanaged wheeled motorized vehicle travel by the public. Currently, wheeled motorized vehicle travel by the public is allowed off designated routes below 6,800 feet elevation. In their enjoyment of the Sierra NF, motorized vehicle users have created numerous unauthorized routes. The number of such routes continues to grow each year with many routes having environmental impacts and safety concerns that have not been addressed. The Travel Management Rule, 36 CFR part 212), provides policy for ending this trend of unauthorized route proliferation and managing the Forest transportation system in a sustainable manner through designation of motorized NFS roads, trails and areas, and the prohibition of cross-country travel.

2. There is a need for limited changes and additions to the Sierra NF transportation system to:

2.1. Provide wheeled motorized access to dispersed recreation opportunities (camping, hunting, fishing, hiking, horseback riding, etc.)

2.2. Provide a diversity of wheeled motorized recreation opportunities (4x4 Vehicles, motorcyles, ATVs, passenger vehicles, etc.)

It is Forest Service policy to provide a diversity of road and trail opportunities for experiencing a variety of environments and modes of travel consistent with the National Forest recreation role and land capability (FSM 2353.03(2)).

In meeting these needs the proposed action must also achieve the following purposes:

A. Avoid impacts to cultural resources.

B. Provide for public safety.

C. Provide for a diversity of recreational opportunities.

D. Assure adequate access to public and private lands.

E. Provide for adequate maintenance and administration of thr transportation system based on availability of resources and funding to do so.

F. Minimize damage to soil, vegetation and other forest resources.

G. Avoid harassment of wildlife and significant disruption of wildlife habitat.

H. Minimize conflicts between wheeled motor vehicles and existing or proposed recreational uses of NFS lands.

I. Minimize conflicts among different classes of wheeled motor vehicle uses of NFS lands or neighboring federal lands.

J. Assure compatibility of wheeled motor vehicle use with existing conditions in populated areas, taking into account sound, emissions, etc.

K. Have valid existing rights of use and access (rights-of-way).

Proposed Action

1. Prohibition of wheeled motorized vehicle travel off the designated NFS roads, NFS trails and areas by the public except as allowed by permit or other authorization.

2. Additions to the National Forest Transportation System—The Sierra NF currently manages and maintains approximately 2,530 miles of NFS roads and no NFS motorized trails. Based on the stated purpose and need for action and as a result of the recent Travel Analysis process; the Sierra NF proposes to add no NFS roads; add approximately 54 miles of new motorized trail; permanently convert 72 miles of NFS Roads to NFS Trails; manage 71 miles of NFS Roads as NFS Trails; and add approximately six acres of new motorized use areas.

Proposed Additions to Motorized Trails System
Trail name | Proposed use | Length | Season of use | District
Battalion | Open to All Vehicles | 0.50 | May 20 to Dec 01 | Bass Lake.
Chiquito South | Open to All Vehicles | 0.35 | May 20 to Dec 01 | Bass Lake.
Lost Lake | Open to All Vehicles | 0.58 | Year Round | Bass Lake.
Deadman Miami | Open to Motorcycles Only | 0.83 | Apr 20 to Dec 01 | Bass Lake.
Footman | Open to Motorcycles Only | 1.62 | May 20 to Dec 01 | Bass Lake.
Beasore | Open to Vehicles Less Than 50″ | 0.79 | May 20 to Dec 01 | Bass Lake.
BLT Miami | Open to Vehicles Less Than 50″ | 0.12 | Apr 20 to Dec 01 | Bass Lake.
Browns | Open to Vehicles Less Than 50″ | 0.77 | Apr 20 to Dec 01 | Bass Lake.
Cedar Loop | Open to Vehicles Less Than 50″ | 1.41 | Year Round | Bass Lake.
Central | Open to Vehicles Less Than 50″ | 0.32 | Apr 20 to Dec 01 | Bass Lake.
Chiquito North | Open to Vehicles Less Than 50″ | 0.72 | May 20 to Dec 01 | Bass Lake.
Cody E Miami | Open to Vehicles Less Than 50″ | 0.79 | Apr 20 to Dec 01 | Bass Lake.
Cody W Miami | Open to Vehicles Less Than 50″ | 1.62 | Apr 20 to Dec 01 | Bass Lake.
Express | Open to Vehicles Less Than 50″ | 1.01 | Apr 20 to Dec 01 | Bass Lake.
E-Zee Miami | Open to Vehicles Less Than 50″ | 0.65 | May 20 to Dec 01 | Bass Lake.
Greys | Open to Vehicles Less Than 50″ | 0.56 | Year Round | Bass Lake.
Hail | Open to Vehicles Less Than 50″ | 0.82 | Apr 20 to Dec 01 | Bass Lake.
Halfmile Miami | Open to Vehicles Less Than 50″ | 0.62 | Apr 20 to Dec 01 | Bass Lake.
Johnson | Open to Vehicles Less Than 50″ | 0.18 | Year Round | Bass Lake.
Martin Miami | Open to Vehicles Less Than 50″ | 0.50 | Apr 20 to Dec 01 | Bass Lake.
Miami | Open to Vehicles Less Than 50″ | 1.72 | May 20 to Dec 01 | Bass Lake.
MMTB Miami | Open to Vehicles Less Than 50″ | 2.27 | Apr 20 to Dec 01 | Bass Lake.
Power Loop E | Open to Vehicles Less Than 50″ | 0.25 | Apr 20 to Dec 01 | Bass Lake.
Power Loop N | Open to Vehicles Less Than 50″ | 0.82 | Apr 20 to Dec 01 | Bass Lake.
Powerline | Open to Vehicles Less Than 50″ | 0.70 | May 20 to Dec 01 | Bass Lake.
Quartz Mtn | Open to Vehicles Less Than 50″ | 0.64 | Jun 15 to Nov 01 | Bass Lake.
Rock Creek | Open to Vehicles Less Than 50″ | 0.53 | Apr 20 to Dec 01 | Bass Lake.
Rush | Open to Vehicles Less Than 50″ | 1.73 | May 20 to Dec 01 | Bass Lake.
Shady E Miami | Open to Vehicles Less Than 50″ | 0.35 | Apr 20 to Dec 01 | Bass Lake.
Shady Miami | Open to Vehicles Less Than 50″ | 2.38 | May 20 to Dec 01 | Bass Lake.
Soquel | Open to Vehicles Less Than 50″ | 0.68 | Apr 20 to Dec 01 | Bass Lake.
Stagecoach | Open to Vehicles Less Than 50″ | 3.12 | Apr 20 to Dec 01 | Bass Lake.
Summit | Open to Vehicles Less Than 50″ | 1.05 | Year Round | Bass Lake.
Sunflower Miami | Open to Vehicles Less Than 50″ | 0.97 | Year Round | Bass Lake.
Texas | Open to Vehicles Less Than 50″ | 0.64 | Year Round | Bass Lake.
Whiskey | Open to Vehicles Less Than 50″ | 1.58 | Year Round | Bass Lake.
45 Cutoff | Open to All Vehicles | 0.69 | May 20 to Dec 01 | High Sierra.
Basecamp | Open to All Vehicles | 1.07 | Year Round | High Sierra.
Bearpaw | Open to All Vehicles | 0.64 | Year Round | High Sierra.
Boneyard | Open to All Vehicles | 0.48 | Year Round | High Sierra.
Buck | Open to All Vehicles | 0.10 | Apr 20 to Dec 01 | High Sierra.
Campfire | Open to All Vehicles | 0.17 | Year Round | High Sierra.
Campout | Open to All Vehicles | 0.09 | Year Round | High Sierra.
Dayuse | Open to All Vehicles | 0.16 | Year Round | High Sierra.
Doe | Open to All Vehicles | 0.29 | Year Round | High Sierra.
Dry Camp | Open to All Vehicles | 0.07 | Year Round | High Sierra.
Fawn | Open to All Vehicles | 0.11 | Year Round | High Sierra.
Horseshoe | Open to All Vehicles | 0.13 | Year Round | High Sierra.
Kaiser | Open to All Vehicles | 0.02 | Year Round | High Sierra.
Lower Bald | Open to All Vehicles | 3.34 | Year Round | High Sierra.
Lower Dinkey | Open to All Vehicles | 0.44 | Year Round | High Sierra.
North Bald | Open to All Vehicles | 0.66 | May 20 to Dec 01 | High Sierra.
One Mile | Open to All Vehicles | 0.26 | Year Round | High Sierra.
Racoon | Open to All Vehicles | 0.71 | Year Round | High Sierra.
Ridgeline | Open to All Vehicles | 0.68 | Year Round | High Sierra.
Ridgetop | Open to All Vehicles | 1.08 | Year Round | High Sierra.
Rockhopper | Open to All Vehicles | 1.15 | Apr 20 to Dec 01 | High Sierra.
Rockslide | Open to All Vehicles | 1.20 | Year Round | High Sierra.
Sand Flats | Open to All Vehicles | 0.27 | Year Round | High Sierra.
South Fort | Open to All Vehicles | 0.13 | Year Round | High Sierra.
Spike | Open to All Vehicles | 0.05 | Year Round | High Sierra.
Streamside | Open to All Vehicles | 0.14 | Year Round | High Sierra.
Tamarack | Open to All Vehicles | 0.06 | Year Round | High Sierra.
Upper Bald | Open to All Vehicles | 2.14 | Apr 20 to Dec 01 | High Sierra.
Upper Dinkey | Open to All Vehicles | 0.19 | Year Round | High Sierra.
Creekside | Open to Vehicles Less Than 50″ | 1.91 | Apr 20 to Dec 01 | High Sierra.
Roadside | Open to Vehicles Less Than 50″ | 1.37 | Year Round | High Sierra.

Convert From NFS Roads to NFS Trails
Road/trail No. | Beg MP | End MP | Vehicle class | Season of use | District
HITE COVE OHV ROUTE (03S002) | 1.25 | 4.95 | Open to All Vehicles | Apr 20 to Dec 01 | Bass Lake.
STAR LAKES OHV ROUTE (05S026) | 0.6 | 2.9 | Open to All Vehicles | Year Round | Bass Lake.
GREEN MTN OHV ROUTE (05S030X) | 0 | 2 | Open to All Vehicles | Year Round | Bass Lake.
CATTLE MTN OHV ROUTE (05S030XA) | 0 | 2 | Open to All Vehicles | Year Round | Bass Lake.
RED TOP OHV ROUTE (05S070A) | 0 | 1.2 | Open to All Vehicles | Year Round | Bass Lake.
GLOBE ROCK AA SPUR (05S070AA) | 0 | 0.66 | Open to All Vehicles | Year Round | Bass Lake.
IRON LAKES OHV ROUTE (05S092A) | 0 | 0.6 | Open to All Vehicles | Year Round | Bass Lake.
DUSY-ERSHIM OHV ROUTE (07S032) | 1.2 | 25.2 | Open to All Vehicles | Jul 15 to Nov 01 | High Sierra.
COYOTE OHV ROUTE (08S042) | 3.2 | 6.1 | Open to All Vehicles | Jun 01 to Nov 01 | High Sierra.
STRAWBERRY OHV ROUTE (08S042X) | 0 | 2.5 | Open to All Vehicles | Jun 01 to Nov 01 | High Sierra.
WEST LAKE OHV ROUTE (08S042XA) | 0 | 0.3 | Open to All Vehicles | Jun 01 to Nov 01 | High Sierra.
MIRROR LAKE OHV ROUTE (08S042XB) | 0 | 0.7 | Open to All Vehicles | Jun 01 to Nov 01 | High Sierra.
BREWER LAKE OHV ROUTE (09S034) | 0 | 2.1 | Open to All Vehicles | Jun 01 to Nov 01 | High Sierra.
BALD MTN OHV ROUTE (09S043) | 0 | 4.5 | Open to All Vehicles | Year Round | High Sierra.
BALD OHV B (09S043B) | 0 | 1.8 | Open to All Vehicles | May 20 to Dec 01 | High Sierra.
PEEP OHV (09S043A) | 0 | 0.2 | Open to All Vehicles | May 20 to Dec 01 | High Sierra.
TRI-TIP OHV ROUTE (09S091) | 0 | 1.3 | Open to All Vehicles | May 20 to Dec 01 | High Sierra.
SWAMP LAKE OHV ROUTE (10S015) | 0 | 13.8 | Open to All Vehicles | Jun 15 to Nov 01 | High Sierra.
SPANISH LAKE OHV ROUTE (11S007A) | 0 | 5.7 | Open to All Vehicles | Aug 01 to Nov 01 | High Sierra.

NFS Roads to be Managed as NFS Trails
Road/Trail No. | Beg Mp | End Mp | Vehicle class | Season of use | District
50S009XA | 0 | 0.6 | Open to Vehicles Less Than 50″ | Year Round | Bass Lake.
50S013G | 0 | 0.4 | Open to Vehicles Less Than 50″ | Year Round | Bass Lake.
50S020X | 0 | 2.5 | Open to Vehicles Less Than 50″ | Year Round | Bass Lake.
50S023 | 0 | 0.9 | Open to Vehicles Less Than 50″ | Year Round | Bass Lake.
50S027 | 0 | 0.4 | Open to Vehicles Less Than 50″ | Year Round | Bass Lake.
50S024C | 0 | 0.6 | Open to Vehicles Less Than 50″ | Year Round | Bass Lake.
06S027M | 0 | 0.3 | Open to All Vehicles | Apr 20 to Dec 01 | High Sierra.
06S034 | 0 | 1 | Open to All Vehicles | May 20 to Dec 01 | High Sierra.
06S034A | 0 | 0.9 | Open to All Vehicles | May 20 to Dec 01 | High Sierra.
06S037 | 0 | 0.7 | Open to All Vehicles | May 20 to Dec 01 | High Sierra.
06S037A | 0 | 0.1 | Open to All Vehicles | May 20 to Dec 01 | High Sierra.
06S040XA | 0 | 1.2 | Open to All Vehicles | May 20 to Dec 01 | Bass Lake.
06S042G | 0 | 0.6 | Open to Vehicles Less Than 50″ | Year Round | Bass Lake.
06S043A | 0 | 0.5 | Open to All Vehicles | Jun 15 to Oct 01 | High Sierra.
06S044XB | 0 | 1.5 | Open to All Vehicles | Jun 15 to Oct 01 | High Sierra.
06S048A | 0 | 0.3 | Open to All Vehicles | May 20 to Dec 01 | High Sierra.
06S086B | 0 | 0.4 | Open to All Vehicles | May 20 to Dec 01 | High Sierra.
06S086C | 0 | 0.9 | Open to All Vehicles | May 20 to Dec 01 | High Sierra.
06S089YA | 0 | 0.6 | Open to All Vehicles | Jun 15 to Oct 01 | High Sierra.
07S005SA | 0 | 0.4 | Open to All Vehicles | Apr 20 to Dec 01 | High Sierra.
07S008A | 0 | 0.7 | Open to Vehicles Less Than 50″ | Year Round | Bass Lake.
07S008B | 0 | 0.5 | Open to Vehicles Less Than 50″ | Year Round | Bass Lake.
07S012 | 0 | 1.2 | Open to All Vehicles | May 20 to Dec 01 | High Sierra.
07S095 | 0 | 0.9 | Open to Vehicles Less Than 50″ | Year Round | Bass Lake.
07S095A | 0 | 0.2 | Open to Vehicles Less Than 50″ | Year Round | Bass Lake.
07S099 | 0 | 0.2 | Open to All Vehicles | May 20 to Dec 01 | High Sierra.
07S099A | 0 | 0.2 | Open to All Vehicles | May 20 to Dec 01 | High Sierra.
07S303A | 0 | 0.3 | Open to All Vehicles | May 20 to Dec 01 | High Sierra.
07S500 | 0 | 0.5 | Open to Vehicles Less Than 50″ | Year Round | Bass Lake.
07S520A | 0 | 1.1 | Open to Vehicles Less Than 50″ | Year Round | Bass Lake.
08S056 | 0 | 1.1 | Open to All Vehicles | May 20 to Dec 01 | High Sierra.
08S057 | 0 | 0.4 | Open to All Vehicles | Apr 20 to Dec 01 | High Sierra.
08S098G | 0 | 0.7 | Open to All Vehicles | May 20 to Dec 01 | High Sierra.
09S005E | 0 | 0.5 | Open to All Vehicles | Aug 15 to Dec 01 | High Sierra.
09S006A | 0 | 0.5 | Open to All Vehicles | Apr 20 to Dec 01 | High Sierra.
09S009B | 0 | 1.2 | Open to All Vehicles | May 20 to Dec 01 | High Sierra.
09S009C | 0 | 0.6 | Open to All Vehicles | Apr 20 to Dec 01 | High Sierra.
09S009K | 0 | 0.1 | Open to All Vehicles | Year Round | High Sierra.
09S014A | 0 | 1 | Open to All Vehicles | Apr 20 to Dec 01 | High Sierra.
09S015 | 0 | 0.7 | Open to All Vehicles | May 20 to Dec 01 | High Sierra.
09S034A | 0 | 0.7 | Open to All Vehicles | Jun 01 to Nov 01 | High Sierra.
09S034B | 0 | 1 | Open to All Vehicles | Jun 01 to Nov 01 | High Sierra.
09S066A | 0 | 0.4 | Open to All Vehicles | May 20 to Dec 01 | High Sierra.
09S069C | 0 | 0.5 | Open to All Vehicles | Apr 20 to Dec 01 | High Sierra.
09S072 | 0.8 | 2.2 | Open to All Vehicles | Apr 20 to Dec 01 | High Sierra.
09S072A | 0 | 1.3 | Open to All Vehicles | Apr 20 to Dec 01 | High Sierra.
09S090 | 0 | 0.7 | Open to All Vehicles | Apr 20 to Dec 01 | High Sierra.
09S090A | 0 | 0.5 | Open to All Vehicles | Apr 20 to Dec 01 | High Sierra.
09S090B | 0 | 0.2 | Open to All Vehicles | Apr 20 to Dec 01 | High Sierra.
09S404 | 0.1 | 0.8 | Open to All Vehicles | Apr 20 to Dec 01 | High Sierra.
09S404A | 0 | 0.2 | Open to All Vehicles | Apr 20 to Dec 01 | High Sierra.
09S404B | 0 | 0.2 | Open to All Vehicles | Apr 20 to Dec 01 | High Sierra.
10S013A | 0 | 1 | Open to All Vehicles | Apr 20 to Dec 01 | High Sierra.
10S013G | 0 | 0.4 | Open to All Vehicles | Apr 20 to Dec 01 | High Sierra.
10S016A | 0 | 0.3 | Open to All Vehicles | Apr 20 to Dec 01 | High Sierra.
10S016E | 0 | 0.3 | Open to All Vehicles | Apr 20 to Dec 01 | High Sierra.
10S016H | 0 | 0.7 | Open to All Vehicles | Apr 20 to Dec 01 | High Sierra.
10S016M | 0 | 0.11 | Open to All Vehicles | Apr 20 to Dec 01 | High Sierra.
10S016NA | 0 | 0.4 | Open to All Vehicles | Aug 15 to Dec 01 | High Sierra.
10S018V | 0 | 0.7 | Open to All Vehicles | Apr 20 to Dec 01 | High Sierra.
10S020E | 0 | 0.3 | Open to All Vehicles | Apr 20 to Dec 01 | High Sierra.
10S036 | 4.6 | 5.1 | Open to All Vehicles | Jun 15 to Oct 01 | High Sierra.
10S036B | 0 | 0.8 | Open to All Vehicles | Jun 15 to Oct 01 | High Sierra.
10S036DA | 0 | 0.2 | Open to All Vehicles | Apr 20 to Dec 01 | High Sierra.
10S066C | 0 | 1.2 | Open to All Vehicles | Apr 20 to Dec 01 | High Sierra.
10S066E | 0 | 1.3 | Open to All Vehicles | May 20 to Dec 01 | High Sierra.
10S066H | 0 | 0.6 | Open to All Vehicles | May 20 to Dec 01 | High Sierra.
10S066J | 0 | 0.6 | Open to All Vehicles | May 20 to Dec 01 | High Sierra.
10S066JA | 0 | 0.6 | Open to All Vehicles | May 20 to Dec 01 | High Sierra.
10S066L | 0 | 0.5 | Open to All Vehicles | May 20 to Dec 01 | High Sierra.
10S066N | 0 | 0.7 | Open to All Vehicles | May 20 to Dec 01 | High Sierra.
10S069C | 0 | 0.3 | Open to All Vehicles | Year Round | High Sierra.
10S069D | 0 | 0.4 | Open to All Vehicles | Year Round | High Sierra.
10S070BA | 0 | 0.4 | Open to All Vehicles | Year Round | High Sierra.
10S070T | 0 | 0.3 | Open to All Vehicles | Year Round | High Sierra.
10S075D | 0 | 0.5 | Open to All Vehicles | Apr 20 to Dec 01 | High Sierra.
10S090 | 0 | 3.4 | Open to All Vehicles | Apr 20 to Dec 01 | High Sierra.
10S098 | 0 | 0.4 | Open to All Vehicles | May 20 to Dec 01 | High Sierra.
10S099 | 0 | 2.3 | Open to All Vehicles | May 20 to Dec 01 | High Sierra.
10S099A | 0 | 1.1 | Open to All Vehicles | Apr 20 to Dec 01 | High Sierra.
10S099B | 0 | 1.1 | Open to All Vehicles | Apr 20 to Dec 01 | High Sierra.
10S407 | 0 | 0.2 | Open to All Vehicles | Apr 20 to Dec 01 | High Sierra.
10S415 | 0 | 0.3 | Open to All Vehicles | Apr 20 to Dec 01 | High Sierra.
10S416 | 0 | 0.3 | Open to All Vehicles | Apr 20 to Dec 01 | High Sierra.
11S004C | 0 | 0.4 | Open to All Vehicles | Apr 20 to Dec 01 | High Sierra.
11S010B | 0 | 0.2 | Open to All Vehicles | May 20 to Dec 01 | High Sierra.
11S010F | 0 | 0.6 | Open to All Vehicles | May 20 to Dec 01 | High Sierra.
11S023D | 0 | 0.5 | Open to All Vehicles | Apr 20 to Dec 01 | High Sierra.
11S023F | 0.5 | 1.2 | Open to All Vehicles | Apr 20 to Dec 01 | High Sierra.
11S040G | 0 | 0.5 | Open to All Vehicles | Apr 20 to Dec 01 | High Sierra.
11S040J | 0 | 0.2 | Open to All Vehicles | Apr 20 to Dec 01 | High Sierra.
11S040N | 0 | 0.7 | Open to All Vehicles | Apr 20 to Dec 01 | High Sierra.
11S040XA | 0 | 0.2 | Open to All Vehicles | Apr 20 to Dec 01 | High Sierra.

Proposed Motorized Use Area Additions
Name | Area | Proposed use | Season of use
Tule Mdw Use Area | 6 Acres | Open to All Vehicles | May 20 to Dec 1.

3. Changes of the allowable of use on the NFS Roads—It is proposed to restrict the type of vehicular use and/or the period of use on approximately 970 miles of existing NFS Roads. And to permanently close 200 miles of existing NFS Roads to public access unless allowed by permit or other authorization. [See Internet, http://www.fs.us.fed/r5/sierra/projects/ohv, for complete tables.]

Maps and tables describing in detail both the Sierra NF transportation system and the proposed action can found at http://www.fs.fed.us/r5/sierra/projects/ohv. In addition, maps will be available for viewing at:

Supervisor's Office, 1600 Tollhouse Rd., Clovis, CA.

Bass Lake Ranger District, 57003 Road 225, North Fork, CA.

High Sierra Ranger District, 29688 Auberry Road, Prather, CA.

Responsible Official

Edward C. Cole, Forest Supervisor, 1600 Tollhouse Rd., Clovis, CA 93611.

Nature of Decision To Be Made

The responsible official will decide whether to adopt and implement the proposed action, an alternative to the proposed action, or take no action to make changes to the existing Sierra NF Transportation System and prohibit cross country wheeled motorized vehicle travel by the public off the designated system. Once the decision is made, the Sierra NF will publish a Motor Vehicle Use Map (MVUM) identifying the roads, trails and areas that are designated for motor vehicle use. The MVUM shall specify the classes of vehicles and, if appropriate, the times of year for which use is designated.

Scoping Process

Public participation will be especially important at several points during the analysis. The Forest Service will be seeking information, comments, and assistance from the federal, state, and local agencies and other individuals or organizations who may be interested in or affected by the proposed action. Public Meetings will be held from 6:30 p.m. to 9 p.m. at the following locations:

Mariposa: Sept 24, at the Best Western Yosemite Way, 4999 State Highway 49.

Clovis: Sept 26, at the Sierra NF Headquaters. 1600 Tollhouse Road.

Prather: Sept 27, at the High Sierra District Office, 29688 Auberry Road.

Oakhurst: Oct 2, at the Oakhurst Community Center, Road 425B.

The Notice of Intent is expected to be published in the Federal Register on September 14, 2007. The comment period on the proposed action will extend 30 days from the date the Notice of Intent is published in the Federal Register.

The draft environmental impact statement is expected to be filed with the Environmental Protection Agency (EPA) and to be available for public review by November 2007. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Sierra NF participate at that time.

The final EIS is scheduled to be completed in January 2008. In the final EIS, the Forest Service is required to respond to substantive comments received during the comment period that pertain to the environmental consequences discussed in the draft EIS and applicable laws, regulations, and policies considered in making the decision. Substantive comments are defined as “comments within the scope of the proposed action, specific to the proposed action, and have a direct relationship to the proposed action, and include supporting reasons for the responsible official to consider” (36 CFR 215.2). Submission of substantive comments is a prerequisite for eligibility to appeal under the 36 CFR part 215 regulations.

Comments Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, section 21)

Dated: September 5, 2007.
Edward C. Cole,
Forest Supervisor.

[FR Doc. E7-17834 Filed 9-10-07; 8:45 am]

BILLING CODE 3410-01-P